NATIONAL AERONAUTICS AND SPACE ADMINISTRATION

[Notice (03-037)]

Notice of Prospective Patent License

AGENCY: National Aeronautics and Space Administration.

ACTION: Notice of Prospective Patent License.

SUMMARY: NASA hereby gives notice that the Bombardier Motor Corporation of America, of Delaware, has applied for an exclusive license to practice the inventions disclosed in NASA Case Nos. MFS-31294-2-CIP2 entitled “Aluminum Alloy And Article Cast Therefrom,” MFS-31294-7-CIP entitled “Process For Producing A Cast Article From A Hypereutectic Aluminum-Silicon Alloy” and MFS-31828-1 entitled “High Strength Aluminum Alloy For High Temperature Applications,” for which U.S. Patent Applications were filed and assigned to the United States of America as represented by the Administrator of the National Aeronautics and Space Administration. Written objections to the prospective grant of a license should be sent to James L. McGroary, Chief Patent Counsel/LS01, Marshall Space Flight Center, Huntsville, AL 35812. NASA has not yet made a determination to grant the requested license and may deny the requested license even if no objections are submitted within the comment period.

DATES: Responses to this notice must be received by April 24, 2003.

FOR FURTHER INFORMATION CONTACT: Sammy A. Nabors, Technology Transfer Department/CD30, Marshall Space Flight Center, Huntsville, AL 35812, (256) 544-5236.

Dated: January 3, 2003.
Robert M. Stephens,
Deputy General Counsel.

[FR Doc. 03-8639 Filed 4-8-03; 8:45 am]

BILLING CODE 7510-01-P